DEPARTMENT OF THE INTERIOR

Bureau of Land Management

[LLCON05000-L14300000-ES0000; COC-73764]

Notice of Realty Action: Recreation and Public Purposes Act Classification; Rio Blanco County, Colorado

AGENCY: Bureau of Land Management, Interior.

ACTION: Notice of Realty Action.

SUMMARY: The Bureau of Land Management (BLM) has examined and found suitable for classification for lease and subsequent conveyance under the provisions of the Recreation and Public Purposes Act (R&PP), as amended, approximately 19.98 acres of public land in Rio Blanco County, Colorado. Rangely District Hospital proposes to use the land for a hospital.

DATES: Interested parties may submit written comments regarding the proposed lease/conveyance or classification on or before August 23, 2010.

ADDRESSES: Comments should be sent to the Field Manager, BLM White River Field Office, 220 East Market Street, Meeker, Colorado 81641.

FOR FURTHER INFORMATION CONTACT: Stacey Burke, Realty Specialist, at the address above, by telephone at (970) 878-3827, or by e-mail at: Stacey_Burke@blm.gov.

SUPPLEMENTARY INFORMATION: In accordance with Section 7 of the Taylor Grazing Act, (43 U.S.C. 315(f)) and Executive Order No. 6910, the following described public land in Rio Blanco County, Colorado, has been examined and found suitable for classification for lease and subsequent conveyance under the provisions of the R&PP Act, as amended, (43 U.S.C. 869 et seq.):

Sixth Principal Meridian

T. 1 N., R. 102 W.,

Sec. 2, lots 10 and 23.

The area described contains approximately 19.98 acres in Rio Blanco County, Colorado.

In accordance with the R&PP Act, Rangely District Hospital filed an R&PP application to develop the above-described land as a hospital with a parking area and helipad. The land is not needed for any Federal purpose. The lease and subsequent conveyance is consistent with the BLM White River Record of Decision and Approved Resource Management Plan dated July 1, 1997, and would be in the public interest. The lease/conveyance, when issued, will be subject to the provisions of the R&PP Act and applicable regulations of the Secretary of the Interior, and will be subject to the following terms, conditions, and reservations to the United States:

1. A right-of-way thereon for ditches and canals constructed by the authority of the United States pursuant to the Act of August 30, 1890 (43 U.S.C. 945).

2. All minerals shall be reserved to the United States, together with the right to prospect for, mine, and remove such deposits from the same under applicable law and such regulations as the Secretary of the Interior may prescribe, along with all necessary access and exit rights.

3. A right-of-way, across the above-described lands, for a natural gas pipeline granted to Public Service Company of Colorado, its successors or assigns, by right-of-way COC-1972 pursuant to the Act of February 25, 1920 (41 Stat. 0437, 30 U.S.C. 185, sec. 28).

4. A right-of-way, across the above-described lands, for a natural gas pipeline granted to Northwest Pipeline, its successors or assigns, by right-of-way COC-61016 pursuant to the Act of February 25, 1920 (41 Stat. 0437, 30 U.S.C. 185, sec. 28).

5. A right-of-way, across the above-described lands, for a road granted to the Town of Rangely, its successors or assigns, by right-of-way COC-26770 pursuant to the Act of July 26, 1866 (Revised Stat. 2477, 43 U.S.C. 932).

6. A right-of-way, across the above-described lands, for water utilities granted to the Town of Rangely, its successors or assigns, by right-of-way COC-23658B pursuant to the Act of February 15, 1901 (90 Stat. 2776, 43 U.S.C. 1761).

7. A right-of-way, across the above-described lands, for a bike path granted to the Town of Rangely, its successors or assigns, by right-of-way COC-50035 pursuant to the Act of October 21, 1976 (31 Stat. 0790, 43 U.S.C. 959).

8. Any other valid rights-of-way that may exist at the time of lease or conveyance.

9. All valid existing rights documented on the official public land records at the time of patent issuance.

10. Indemnification Term: The lessee or patentee, its successors or assigns, by accepting a lease or patent, agrees to indemnify, defend, and hold the United States harmless from any costs, damages, claims, causes of action, penalties, fines, liabilities, and judgments of any kind arising from the past, present, or future acts or omissions of the lessee or patentee, its employees, agents, contractor, or lessees, or any third party, arising out of, or in connection with, the lessee or patentee's use, occupancy or operations on the patented real property. This indemnification and hold harmless agreement includes, but is not limited to, acts and omissions of the lessee or patentee and its employees, agents, contractors or lessees, or any third party, arising out of or in connection with the use and/or occupancy of the leased or patented real property which has already resulted or does hereafter result in: (1) Violations of Federal, State and local laws and regulations that are now, or may in the future, become applicable to the real property; (2) judgments, claims, or demands of any kind assessed against the United States; (3) costs, expenses, or damages of any kind incurred by the United States; (4) releases or threatened releases of solid or hazardous waste(s) and/or hazardous substance(s) as defined by Federal or State environmental laws, off, on, into, or under land, property, and other interests of the United States; (5) activities by which solids or hazardous substances or wastes, as defined by Federal and State environmental laws are generated, released, stored, used, or otherwise disposed of on the leased or patented real property, and any cleanup response, remedial action, or other actions related in any manner to said solid or hazardous substance(s) or waste(s); or (6) natural resource damages as defined by Federal and State law. This covenant shall be construed as running with the real property should the lease or patent be transferred to another party and may be enforced by the United States in a court of competent jurisdiction.

11. CERCLA Term: “Pursuant to the requirements established by Section 120(h) of the Comprehensive Environmental Response, Compensation and Liability Act (42 U.S.C. 9620(h)) (CERCLA), as amended by the Superfund Amendments and Reauthorization Act of 1988, (100 Stat. 1670), notice is hereby given that the above-described parcel has been examined and no evidence was found to indicate that any hazardous substances have been stored for 1 year or more, nor had any hazardous substances been disposed of or released on the subject property.”

Upon publication of this notice in the Federal Register, the parcel will be segregated from all other forms of appropriation under the public land laws, including the general mining laws, except for lease/conveyance under the R&PP Act, leasing under the mineral leasing laws, and disposals under the mineral material disposal laws.

Classification Comments: Interested persons may also submit comments on the application of the lands as suitable for development as hospital facilities. Comments on the classification are restricted to whether the land is physically suited for the proposal, whether the use will maximize the future use or uses of the land, whether the use is consistent with local planning and zoning, or if the use is consistent with State and Federal programs.

Interested persons may also submit comments on the application, including the notification of the BLM of any encumbrances or other claim relating to the parcel, and regarding the specific use proposed in the application and plan of development, whether the BLM followed proper administrative procedures in reaching the decision to lease/convey the land under the R&PP Act, or any other factors not directly related to the suitability of the land for public hospital facilities. Any adverse comments will be reviewed by the BLM Colorado State Director. In the absence of any adverse comments, this realty action will become effective on September 7, 2010. The land will not be offered for lease/conveyance until after the classification becomes effective. Only written comments submitted by postal service or overnight mail to the Field Manager, BLM White River Field Office, will be considered properly filed. E-mail, facsimile, or telephone comments will not be considered properly filed. Documents related to this action are on file at the BLM White River Field Office at the address above and may be reviewed by the public at their request. Before including your address, phone number, e-mail address, or other personal identifying information in your comment, be advised that your entire comment—including your personal identifying information—may be made publicly available at any time. While you can ask us in your comment to withhold your personal identifying information from public review, we cannot guarantee that we will be able to do so.

Authority: 43 CFR 2741.5.

Helen M. Hankins,
State Director.

[FR Doc. 2010-16603 Filed 7-7-10; 8:45 am]

BILLING CODE 4310-JB-P